NUCLEAR REGULATORY COMMISSION

[Docket Nos. STN 50-454, STN 50-455, STN 50-456, and STN 50-457]

Exelon Generation Company, LLC; Notice of Issuance of Amendments to Facility Operating Licenses; Correction

AGENCY: Nuclear Regulatory Commission.

ACTION: Notice of Issuance; correction.

SUMMARY: This document corrects a notice appearing in the Federal Register on June 7, 2005 (70 FR 33222), that incorrectly stated the date of issuance of amendments deleting the technical specification requirements related to hydrogen recombiners as May 19, 2005. The correct date of issuance of the amendments is May 26, 2005.

FOR FURTHER INFORMATION CONTACT: George F. Dick, Office of Nuclear Reactor Regulation, U.S. Nuclear Regulatory Commission, Washington, DC 20555-0001; telephone (301) 415-3019, e-mail: GFD@nrc.gov.

SUPPLEMENTARY INFORMATION: On page 33222, in the second column, in the entry for Exelon Generation Company, LLC, Docket Nos. STN 50-454 and STN 50-455, Byron Station, Unit Nos. 1 and 2, Ogle County, Illinois; Docket Nos. STN 50-456 and STN 50-457, Braidwood Station, Unit Nos. 1 and 2, Will County, Illinois, the date of issuance is corrected to read from “May 19, 2005” to “May 26, 2005”.

Dated in Rockville, Maryland, this 9th day of June 2005.
For the Nuclear Regulatory Commission.
George F. Dick, Sr.,
Project Manager, Section 2, Project Directorate III, Division of Licensing Project Management, Office of Nuclear Reactor Regulation.

[FR Doc. E5-3176 Filed 6-17-05; 8:45 am]

BILLING CODE 7590-01-P